OFFICE OF PERSONNEL MANAGEMENT

Excepted Service

AGENCY: Office of Personnel Management (OPM).

ACTION: Notice.

SUMMARY: This notice identifies Schedule A, B, and C appointing authorities applicable to a single agency that were established, modified, or revoked from May 1, 2023, to May 31, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that were established, modified, or revoked from May 1, 2023, to May 31, 2023.

Schedule A

No Schedule A Authorities to report during May 2023.

Schedule B

No Schedule B Authorities to report during May 2023.

Schedule C

The following Schedule C appointing authorities were approved during May 2023.

Agency name | Organization name | Position title | Authorization No. | Effective date
DEPARTMENT OF AGRICULTURE | Office of the Under Secretary for Rural Development | Confidential Assistant | DA230083 | 05/04/2023
|  | Special Assistant | DA230084 | 05/04/2023
| Office of Communications | Deputy Director of Communications | DA230082 | 05/22/2023
|  | Press Secretary | DA230108 | 05/22/2023
| Office of the Assistant Secretary for Congressional Relations | Special Assistant | DA230085 | 05/05/2023
| Office of the General Counsel | Senior Advisor Special Assistant | DA230105 DA230107 | 05/22/2023 05/22/2023
| Office of the Secretary | Special Advisor Director of Scheduling and Advance | DA230086 DA230087 | 05/04/2023 05/22/2023
DEPARTMENT OF COMMERCE | Minority Business Development Agency | Senior Advisor | DC230131 | 05/04/2023
| Office of Business Liaison | Deputy Director | DC230129 | 05/04/2023
| Office of Policy and Strategic Planning | Special Advisor | DC230133 | 05/19/2023
| Office of the Secretary | Special Assistant | DC230139 | 05/19/2023
| Office of the Under Secretary | Special Assistant | DC230136 | 05/19/2023
COUNCIL ON ENVIRONMENTAL QUALITY | Council on Environmental Quality | Staff Assistant for Environmental Justice | EQ230005 | 05/26/2023
DEPARTMENT OF DEFENSE | Office of the Assistant Secretary of Defense (Legislative Affairs) | Special Assistant | DD230150 DD230151 | 05/16/2023 05/31/2023
| Office of the Secretary of Defense | Senior Advisor to the Deputy Secretary of Defense for Strategic Engagements | DD230153 | 05/19/2023
DEPARTMENT OF EDUCATION | Office of the Deputy Secretary | Deputy Chief of Staff | DB230079 | 05/04/2023
| Office of the Under Secretary | Policy Advisor | DB230073 | 05/15/2023
| Office of Communications and Outreach | Press Secretary, Higher Education | DB230085 | 05/15/2023
| Office of Special Education and Rehabilitative Services | Confidential Assistant | DB230087 | 05/18/2023
DEPARTMENT OF ENERGY | Office of the Assistant Secretary for Congressional and Intergovernmental Affairs | Oversight Advisor Special Assistant | DE230113 DE230119 | 05/24/2023 05/26/2023
| Office of the Assistant Secretary for Nuclear Energy | Chief of Staff | DE230118 | 05/26/2023
| National Nuclear Security Administration | Director of Public Affairs | DE230099 | 05/09/2023
| Office of Management | Director of Advance | DE230110 | 05/22/2023
| Office of Public Affairs | Deputy Speechwriter | DE230114 | 05/24/2023
ENVIRONMENTAL PROTECTION AGENCY | Office of the Associate Administrator for Policy | Special Advisor | EP230087 | 05/22/2023
| Office of the Associate Administrator for Congressional and Intergovernmental Relations | Senior Advisor for Congressional Affairs | EP230092 | 05/25/2023
GENERAL SERVICES ADMINISTRATION | Office of Strategic Communication | Press Secretary | GS230033 | 05/09/2023
DEPARTMENT OF HEALTH AND HUMAN SERVICES | Office of the Administration for Children and Families | Director of Communications | DH230189 | 05/04/2023
| Office for Civil Rights | Senior Advisor | DH230190 | 05/04/2023
DEPARTMENT OF HOMELAND SECURITY | Federal Emergency Management Agency | Special Assistant | DM230213 | 05/18/2023
| United States Customs and Border Protection | Deputy Chief of Staff | DM230214 | 05/18/2023
| Office of Public Affairs | Director of Strategic Communications and Speechwriting | DM230236 | 05/18/2023
DEPARTMENT OF HOUSING AND URBAN DEVELOPMENT | Office of the Secretary | Executive Assistant | DU230056 | 05/02/2023
| Office of Housing | Special Assistant | DU230053 | 05/04/2023
DEPARTMENT OF THE INTERIOR | Secretary's Immediate Office | White House Liaison | DI230070 | 05/25/2023
|  | Principal Deputy Communications Director | DI230071 | 05/25/2023
| Office of Congressional and Legislative Affairs | Special Assistant | DI230072 | 05/25/2023
DEPARTMENT OF JUSTICE | Office of Justice Programs | Policy Advisor | DJ230091 | 05/05/2023
| Office of Legislative Affairs | Counsel | DJ230093 | 05/12/2023
DEPARTMENT OF LABOR | Department of Labor | Chief of Staff Advisor | DL230072 DL230067 | 05/26/2023 05/30/2023
| Office of the Assistant Secretary for Administration and Management | Special Assistant | DL230068 | 05/30/2023
| Office of the Secretary | Scheduler | DL230070 | 05/30/2023
| Office of Workers Compensation Programs | Chief of Staff | DL230064 | 05/25/2023
| Office of Veterans Employment and Training Service | Chief of Staff | DL230063 | 05/30/2023
NATIONAL ENDOWMENT FOR THE HUMANITIES | National Endowment for the Humanities | White House Liaison | NH230006 | 05/25/2023
OFFICE OF NATIONAL DRUG CONTROL POLICY | Office of External and Legislative Affairs | Legislative Analyst Public Affairs Specialist (Press Secretary) | QQ230008 QQ230009 | 05/15/2023 05/15/2023
OFFICE OF PERSONNEL MANAGEMENT | Office of the Director | Deputy Chief of Staff | PM230041 | 05/12/2023
SMALL BUSINESS ADMINISTRATION | Office of Communications and Public Liaison | Senior Advisor Digital Director | SB230025 SB230026 | 05/01/2023 05/11/2023
| Office of the Administrator | Special Assistant for Public Engagement | SB230028 | 05/02/2023
DEPARTMENT OF STATE | Office of International Organizations | Deputy Assistant Secretary | DS230129 | 05/04/2023
| Bureau of Global Public Affairs | Senior Advisor (Strategic Communications and Outreach) | DS230130 | 05/04/2023
| Office of Policy Planning | Special Advisor (Speechwriter) | DS230131 | 05/04/2023
DEPARTMENT OF TRANSPORTATION | Office of the Secretary | Deputy Director of Advance | DT230089 | 05/18/2023
| Office of Civil Rights | Special Assistant for Civil Rights | DT230090 | 05/18/2023
DEPARTMENT OF THE TREASURY | Department of the Treasury | Special Assistant Senior Advisor White House Liaison | DY230097 DY230105 DY230107 | 05/04/2023 05/04/2023 05/22/2023

The following Schedule C appointing authorities were revoked during May 2023.

Agency name | Organization name | Position title | Request No. | Vacate date
COUNCIL ON ENVIRONMENTAL QUALITY | Council on Environmental Quality | Scheduler and Communications Assistant | EQ220001 | 05/21/2023
DEPARTMENT OF AGRICULTURE | Office of the Assistant Secretary for Congressional Relations | Special Assistant | DA220046 | 05/20/2023
| Rural Housing Service | Chief of Staff | DA210067 | 05/06/2023
DEPARTMENT OF COMMERCE | National Telecommunications and Information Administration | Advisor for Intergovernmental Affairs | DC220080 | 05/24/2023
| Office of Advance, Scheduling and Protocol | Chief Protocol Officer and Senior Advisor | DC210181 | 05/06/2023
| Office of Business Liaison | Director, Faith Based and Neighborhood Partnerships and Advisor for Inclusive Partnerships | DC220092 | 05/20/2023
| Office of Executive Secretariat | Special Assistant | DC220121 | 05/20/2023
| Office of the Chief Financial Officer and Assistant Secretary for Administration | Senior Advisor and Deputy Chief of Staff | DC220137 | 05/20/2023
| Office of the General Counsel | Counsel | DC210187 | 05/13/2023
| Patent and Trademark Office | Chief Communications Officer | DC220164 | 05/06/2023
DEPARTMENT OF EDUCATION | Office of Communications and Outreach | Confidential Assistant | DB220045 | 05/06/2023
| Office of the Under Secretary | Confidential Assistant | DB210059 | 05/06/2023
DEPARTMENT OF ENERGY | Office of the Assistant Secretary for Congressional and Intergovernmental Affairs | Regional Intergovernmental and External Affairs for the Northeast | DE210189 | 05/27/2023
| Office of Scheduling and Advance | Deputy Director for Scheduling and Advance | DE220099 | 05/06/2023
DEPARTMENT OF HEALTH AND HUMAN SERVICES | Office of Intergovernmental and External Affairs | Regional Director Philadelphia Region III | DH220072 | 05/02/2023
DEPARTMENT OF HOMELAND SECURITY | Federal Emergency Management Agency | Legislative Correspondent | DM210292 | 05/09/2023
| Office of Strategy, Policy and Plans | Senior Counselor to the Under Secretary | DM210472 | 05/03/2023
|  | Senior Advisor | DM220181 | 05/20/2023
| Transportation Security Administration | Senior Counselor | DM210398 | 05/05/2023
DEPARTMENT OF HOUSING AND URBAN DEVELOPMENT | Office of Congressional and Intergovernmental Relations | Congressional Relations Specialist | DU210031 | 05/06/2023
DEPARTMENT OF LABOR | Office of Public Affairs | Chief of Staff | DL230004 | 05/11/2023
DEPARTMENT OF STATE | Office of Policy Planning | Special Assistant (Speechwriter) | DS210285 | 05/06/2023
| Office of the Under Secretary for Civilian Security, Democracy and Human Rights | Senior Advisor | DS210257 | 05/06/2023
ENVIRONMENTAL PROTECTION AGENCY | Office of Public Affairs | Deputy Associate Administrator for Public Affairs | EP220058 | 05/27/2023
| Office of the Administrator | Scheduler | EP220037 | 05/26/2023
|  | Deputy White House Liaison | EP220047 | 05/20/2023
|  | Senior Advisor for Internal Operations | EP230061 | 05/06/2023
GENERAL SERVICES ADMINISTRATION | Office of the Administrator | Special Assistant | GS220002 | 05/07/2023
OFFICE OF THE SECRETARY OF DEFENSE | Office of the Assistant Secretary of Defense (Health Affairs) | Special Assistant | DD230029 | 05/20/2023
| Office of the Secretary of Defense | Special Assistant Protocol Officer | DD220093 DD230039 | 05/06/2023 05/20/2023
| Office of the Under Secretary of Defense (Intelligence and Security) | Special Assistant | DD210106 | 05/20/2023
| Washington Headquarters Services | Special Assistant | DD220185 | 05/20/2023

Authority: 5 U.S.C. 3301 and 3302; E.O. 10577, 3 CFR, 1954-1958 Comp., p. 218.

Office of Personnel Management.
Kayyonne Marston,
Federal Register Liaison.

[FR Doc. 2024-11363 Filed 5-22-24; 8:45 am]

BILLING CODE 6325-39-P